DEPARTMENT OF EDUCATION

Advisory Committee on Student Financial Assistance: Roundtable

AGENCY: Advisory Committee on Student Financial Assistance, Education.

ACTION: Notice of an Opening Meeting.

SUMMARY: This notice sets forth the schedule and proposed agenda of a forthcoming roundtable of the Advisory Committee on Student Financial Assistance (The Advisory Committee). This notice also describes the functions of the Advisory Committee. Notice of this roundtable required under Section 10(a)(2) of the Federal Advisory Committee Act. This document is intended to notify the general public.

DATES: Date and Time: Friday, June 13, 2008, beginning at 9 a.m. and ending at approximately 4:30 p.m.

ADDRESSES: Wyatt Center Rotunda, Peabody College of Education, Vanderbilt University, 1930 South Drive, Nashville, Tennessee 37203.

FOR FURTHER INFORMATION CONTACT: Dr. Michelle Asha Cooper, Deputy Director, Advisory Committee on Student Financial Assistance, Capitol Place, 80 F Street, NW., Suite 413, Washington, DC 20202-7582, (202) 219-2099.

Individuals who use a telecommunications device for the deaf (TDD) may call the Federal Information Relay Service (FRS) at 1-800-8339.

SUPPLEMENTARY INFORMATION: The Advisory Committee on Student Financial Assistance is established under Section 491 of the Higher Education Act of 1965 as amended by Public Law 100-50 (20 U.S.C. 1098). The Advisory Committee serves as an independent source of advice and counsel to the Congress and the Secretary of Education on student financial aid policy. Since its inception, the congressional mandate requires the Advisory Committee to conduct objective, nonpartisan, and independent analyses on important aspects of the student assistance programs under Title IV of the Higher Education Act, and to make recommendations that will result in the maintenance of access to postsecondary education for low- and middle-income students. In addition, Congress expanded the Advisory Committee's mission in the Higher Education Amendments of 1998 to include several important areas: Access, Title IV modernization, distance education, and early information and needs assessment. Specifically, the Advisory Committee is to review, monitor and evaluate the Department of Education's progress in these areas and report recommended improvements to Congress and the Secretary.

The roundtable in Tennessee will focus on ways to ensure access to college for low- and middle-income students and the possible impact of our nation's current economic situation on college access and persistence for students.

This day-long discussion will address broad economic issues related to various areas of the higher education enterprise. Issues addressed will include:

• How will the subprime credit crisis and worsening economic conditions affect access to and persistence in college?

• How might current demographic trends exacerbate the impact?

• How will student aid of all types from all sources be affected?

• What will be the impact on institutional financing, state appropriations, and charitable giving?

• Are recently planned solutions likely to be adequate?

• What additional steps must be taken at the federal, state, and institutional levels?

Individuals who will need accommodations for a disability in order to attend the roundtable (i.e., interpreting services, assistive listening devices, and/or materials in alternative format) should notify the Advisory Committee no later than Thursday, June 5, 2008 by contacting Ms. Tracy Jones at (202) 219-2099 or via e-mail at tracy.deanna.jones@ed.gov. We will attempt to meet requests after this date, but cannot guarantee availability of the requested accommodation. The roundtable site is accessible to individuals with disabilities.

Space for the roundtable is limited and you are encouraged to register early if you plan to attend. You may register by sending an e-mail to the following address: ACSFA@ed.gov or Tracy.Deanna.Jones@ed.gov. Please include your name, title, affiliation, complete address (including internet and e-mail address, if available), and telephone and fax numbers. If you are unable to register electronically, you may fax your registration information to the Advisory Committee staff office at (202) 219-3032. You may also contact the Advisory Committee staff directly at (202) 219-2099. The registration deadline is Monday, June 2, 2008.

Records are kept for Advisory Committee proceedings, and are available for inspection at the Office of the Advisory Committee on Student Financial Assistance, Capitol Place, 80 F Street, NW., Suite 413, Washington, DC from the hours of 9 a.m. to 5:30 p.m. Monday through Friday, except Federal holidays. Information regarding the Advisory Committee is available on the Committee's Web site, http://www.ed.gov/ACSFA.

Electronic Access to This Document: You may view this document, as well as other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free at 1-888-293-6498; or in the Washington DC area at (202) 512-1530.

Note: The official version of this document is the document published in the Federal Register. Free Internet access to the official edition of the Federal Register and the Code of Federal Regulations is available on GPO Access at: http://www.gpoaccess.gov/nara/index.html.

Dated: April 28, 2008.
William J. Goggin,
Executive Director, Advisory Committee on Student Financial Assistance.

[FR Doc. E8-9651 Filed 5-1-08; 8:45 am]

BILLING CODE 4000-01-P